DEPARTMENT OF ENERGY

Federal Energy Regulatory Commission

Combined Notice of Filings

Take notice that the Commission has received the following Natural Gas Pipeline Rate and Refund Report filings:

Filings Instituting Proceedings

Docket Numbers: PR15-38-001.

Applicants: SourceGas Distribution LLC.

Description: Submits tariff filing per 284.123(b), (e), (g): Amended Statement of Operating Conditions to be effective 6/1/2015; Filing Type: 1270.

Filed Date: 8/31/15.

Accession Number: 20150831-5314.

Comments Due: 5 p.m. ET 9/21/15.

284.123(g) Protests Due: 5 p.m. ET9/21/15.

Docket Numbers: RP15-1260-000.

Applicants: Pine Prairie Energy Center, LLC.

Description: § 4(d) Rate Filing: Pine Prairie Energy Center, LLC—Filing of Tariff Modifications to be effective 10/19/2015.

Filed Date: 9/8/15.

Accession Number: 20150908-5109.

Comments Due: 5 p.m. ET 9/21/15.

Docket Numbers: RP15-1261-000.

Applicants: Gulf South Pipeline Company, LP.

Description: § 4(d) Rate Filing: Neg Rate Agmt Filing (BP 30442) to be effective 9/5/2015.

Filed Date: 9/8/15.

Accession Number: 20150908-5237.

Comments Due: 5 p.m. ET 9/21/15.

The filings are accessible in the Commission's eLibrary system by clicking on the links or querying the docket number.

Any person desiring to intervene or protest in any of the above proceedings must file in accordance with Rules 211 and 214 of the Commission's Regulations (18 CFR § 385.211 and § 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 9, 2015.
Nathaniel J. Davis, Sr.,
Deputy Secretary.

[FR Doc. 2015-23206 Filed 9-15-15; 8:45 am]

BILLING CODE 6717-01-P